DEPARTMENT OF TRANSPORTATION

Federal Aviation Administration

Advisory Circulars: Extended Operations (ETOPS) and Polar Operations, AC 121-42B and Extended Operations (ETOPS) and Operations in the North Polar Area, AC 135-42

AGENCY: Federal Aviation Administration, DOT.

ACTION: Notice of issuance of advisory circulars.

SUMMARY: The issuance of Advisory Circular (AC) 121-42B, Extended Operations (ETOPS) and Polar Operations, provides certificate holders with guidance for obtaining operational approval to conduct ETOPS under 14 CFR part 121.

The issuance of AC 135-42, Extended Operations (ETOPS) and Operations in the North Polar Area, provides certificate holders with guidance for obtaining operational approval to conduct Extended Operations (ETOPS) under 14 CFR part 135.

DATES: Advisory Circular No. 120-42B was issued on June 18, 2008. Advisory Circular No. 135-42 was issued on June 12, 2008.

FOR FURTHER INFORMATION CONTACT: Jim Ryan, Aviation Safety Inspector, Air Carrier Operations, AFS-220, Federal Aviation Administration, 800 Independence Ave., SW., Washington, DC 20591; telephone number: (202) 267-8166. A copy of the final AC may be obtained by accessing the FAA's Web page at http://www.faa.gov/avr/arm/nprm.htm.

SUPPLEMENTARY INFORMATION:

Background

AC No. 121-42B, Extended Operations (ETOPS) and Polar Operations

This AC concerns those certificate holders applying for approval to conduct Extended Operations (ETOPS) under § 121.161, as well as those certificate holders applying for approval to conduct flights where a portion of which traverse either the North or South Polar Areas, as defined in § 121.7. This AC also provides guidance in resolving operational issues to certificate holders currently conducting such operations.

AC No. 135-42, Extended Operations (ETOPS) and North Polar Area

This AC provides certificate holders guidance for obtaining operational approval to conduct Extended Operations (ETOPS) under § 135.364. Operations under part 135 with multi-engine powered airplanes may be authorized over a route that contains a point farther than 180 minutes flying time, but no more than 240 minutes flying time, from an airport meeting the requirements of §§ 135.385, 135.393, and 135.219 at an approved one-engine inoperative cruise speed (see 14 CFR part 135 and Appendix 1 of part 135 for definition of one-engine inoperative cruise speed) under standard conditions in still air. This AC also provides guidance for obtaining authorization under § 135.98 to conduct operations in the North Polar Area.

Discussion

Interested parties were given the opportunity to review and comment on the draft ACs during the proposal and development phases. A notice of availability and request for comments was published in the Federal Register on September 17, 2008, part 121 (72 FR 53044) and part 135 (72 FR 53078). A summary of the comments and the FAA's responses may be obtained by accessing the FAA's Web page at http://www.faa.gov/avr/arm/nprm.htm and at http://www.regulations.gov in Docket No. FAA-1999-6717. A copy of the final AC may be obtained by accessing the FAA's Web page at http://www.faa.gov/avr/arm/nprm.htm.

Issued in Washington, DC on June 20, 2008.
John Allen,
Deputy Director, Flight Standards Service, AFS-2.

[FR Doc. E8-14879 Filed 6-30-08; 8:45 am]

BILLING CODE 4910-13-P